DEPARTMENT OF HEALTH AND HUMAN SERVICES
National Institutes of Health
National Institute of Neurological Disorders and Stroke; Amended Notice of Meeting

Notice is hereby given of a change in the meeting of the National Advisory Neurological Disorders and Stroke Council, February 12, 2004, 8 a.m. to February 12, 2004, 10 a.m., National Institutes of Health, Building 1, Wilson Hall, 1 Center Drive, Bethesda, MD 20892, which was published in the Federal Register on January 16, 2004, FR69 04-1019.
The Clinical Trials Subcommittee will be in open session from 8-9 a.m., and will be in closed session from 9-10 a.m. The meeting is partially closed to the public.

Dated: January 23, 2004.
LaVerne Y. Stringfield,
Director, Office of Federal Advisory Committee Policy.

[FR Doc. 04-1997 Filed 1-29-04; 8:45 am]
BILLING CODE 4140-01-M